DEPARTMENT OF THE INTERIOR

National Park Service

[NPS-WASO-CONC-0211-6680; 2410-OYC]

60-Day Notice of Intention To Request Clearance of Collection of Information; Opportunity for Public Comment

AGENCY: National Park Service, Interior.

ACTION: Notice; request for comments.

SUMMARY: We (National Park Service) will ask the Office of Management and Budget (OMB) to approve the information collection (IC) described below. Under the provisions of the Paperwork Reduction Act of 1995 and 5 CFR part 1320, Reporting and Record Keeping Requirements, and as part of our continuing efforts to reduce paperwork and respondent burden, we invite the general public and other Federal agencies to take this opportunity to comment on this new collection of information form (NPS #10-650). We may not conduct or sponsor and a person is not required to respond to a collection of information unless it displays a currently valid OMB control number.

DATES: To ensure that we are able to consider your comments on this information collection (IC), we must receive them by June 10, 2011.

ADDRESSES: Send your comments directly to Mr. Paul Chalfant, Commercial Services Program, National Park Service, 1849 C Street, NW., Mailstop 2410, Washington, DC 20240 (mail), by fax at 202-371-2090, or electronically to Paul_Chalfant@nps.gov. Send your comments also to Rob Gordon, Information Collection Clearance Officer, National Park Service, 1849 C Street, NW., Mailstop 2605, Washington, DC 20240 (mail); or robert_gordon@nps.gov (e-mail). All responses to the notice will be summarized and included in the request for the Office of Management and Budget (OMB) approval. All comments will become a matter of public record.

For Further Information Contact and/or to Request a Draft of Proposed Collection of Information Contact: Paul Chalfant by mail or e-mail (see ADDRESSES), or by telephone at 202/513-7163 and/or Rob Gordon (see ADDRESSES), or by telephone at 202/354-1936.

SUPPLEMENTARY INFORMATION:

I. Abstract

The purpose of this information collection is to assist the National Park Service in managing the Commercial Use Authorization program. The NPS will use the information to manage the Commercial Use Authorizations in manner that is consistent with the highest level of protection of the natural and cultural resources. The information requested will allow the NPS to evaluate requests for a commercial use authorization and determine the suitability of the applicants to safely and effectively provide an appropriate service to the visiting public. It will also enable the NPS to manage the activity in a manner that protects the natural and cultural resources and the park visitor. Management includes, but is not limited to, managing the number of permits issued, determining the location and time that the activity occurs, and requiring the appropriate visitor protections including insurance, equipment, training and procedures.

II. Data

OMB Control Number: None.

Title: Commercial Use Authorizations.

Service Form Number: 10-650 Commercial Use Authorization Application; 10-660 Commercial Use Authorization Annual Survey (the annual survey will be completed only by individuals or businesses that successfully offered the service for the year).

Type of Request: New.

Description of Respondents: Respondents will be individuals or small businesses that wish to provide a commercial service to visitors in national park areas.

Respondent's Obligation: Responses to both of these information collections is mandatory.

Frequency of Collection: In most cases, each respondent will submit one application and one annual report per year.

Activity | Number of respondents | Number of responses | Completion time per response (hours) | Total annual burden hours
Commercial Use Authorization Application | 4500 | 4500 | .50 | 2250
Commercial Use Authorization Annual Survey | 4000 | 4000 | 7.00 | 28000
Totals | 8500 | 8500 | 7.50 | 30,250

Estimated Annual Nonhour Burden Cost: The total non-hour burden to the applicants is estimated at $32,500. It is estimated to cost about $10 for the estimated 3,250 CUA applicants. The costs include but are not limited to printing, mailing, postage and software costs. There are no other costs associated with preparing and submitting an application. Respondents do not have any recurring costs associated with the Commercial Use Authorization process.

Respondents that successfully operate their business under the Commercial Use Authorization are required to submit the Annual Report form. The non-hour burden to these businesses is estimated to be approximately $10. There are 2,850 active Commercial Use Authorizations. The total non-hour burden for the Annual Report form is $28,500.

The commercial use authorizations are issued annually or every 2 (two) years. The 2 (two)-year limit is set by the NPS Concessions Management Improvement Act of 1998, Section 418. These costs would be recurring on a 1 (one) or 2 (two) year cycle.

III. Comments

We invite comments concerning this information collection on:

• Whether or not the collection of information is necessary, including whether or not the information will have practical utility;

• The accuracy of our estimate of the burden for this collection of information;

• Ways to enhance the quality, utility, and clarity of the information to be collected; and,

• Ways to minimize the burden of the collection of information on respondents.

Comments that you submit in response to this notice are a matter of public record. We will include or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: April 5, 2011.
Robert Gordon,
Information Collection Clearance Officer, National Park Service.

[FR Doc. 2011-8526 Filed 4-8-11; 8:45 am]

BILLING CODE P